DEPARTMENT OF HOUSING AND URBAN DEVELOPMENT

24 CFR Part 203

[Docket No. FR-4169-F-04]

RIN 2502-AG87

Delegation of Insuring Authority To Direct Endorsement Mortgages; Announcement of Information Collection Effective Date

AGENCY: Office of the Assistant Secretary for Housing—Federal Housing Commissioner, HUD.

ACTION: Final rule; announcement of effective date.

SUMMARY: This document announces the effective date for the information collection statement contained in a HUD interim rule published in the Federal Register on June 2, 1997. An information collection requirement cannot be instituted unless it is cleared by the Office of Management and Budget (OMB) and assigned an OMB control number. The information collection requirements of the June 2, 1997 interim rule were cleared by OMB on July 10, 1997, and are currently covered by OMB Control Number 2502-0059. Accordingly, the information collection statement in HUD's June 2, 1997, interim rule took effect upon approval by OMB on July 10, 1997.

DATES: Effective Date: The amendment to § 203.255(f), published in the Federal Register on June 2, 1997, at 62 FR 30222, is effective as of July 10, 1997.

FOR FURTHER INFORMATION CONTACT: Kathleen O. McDermott, Senior Management Analyst, Policy Planning and Analysis Division, Office of Housing, Department of Housing and Urban Development, 451 Seventh Street, SW., Room 9116, Washington, DC 20410-7000, telephone (202) 708-0826 (this is not a toll free number). Individuals with speech or hearing impairments may access this number through TTY by calling the toll-free Federal Information Relay Service at 800-877-8339.

SUPPLEMENTARY INFORMATION: On June 2, 1997 (62 FR 30222), HUD published an interim rule, entitled “Delegation of Insuring Authority to Direct Endorsement Mortgagees,” which, in part, provided that Lender Insurance mortgagees must maintain records, including origination files, in a manner and for a time period to be prescribed by the Assistant Secretary for Housing—Federal Housing Commissioner, and must make them available to authorized HUD staff upon request (24 CFR 203.255(f)).

At the time of the publication of the interim rule, the information collection requirements contained in § 203.255(f) had been submitted to, but not yet approved by, the Office of Management and Budget (OMB) for review in accordance with the Paperwork Reduction Act of 1995 (44 U.S.C. 3501-3520). Under the Paperwork Reduction Act, an agency may not conduct or sponsor, and a person is not required to respond to, a collection of information unless and until the collection displays a valid OMB control number.

OMB approved the information collection contained in 24 CFR 203.255(f), as amended by HUD's June 2, 1997, interim rule, on July 10, 1997. Accordingly, the information collection requirements were effective upon that date. The information collection requirements at § 203.255(f) were originally assigned OMB control number 2502-0365. In July 2000, OMB control number 2502-0059 replaced OMB control number 2502-0365 as the valid control number that authorizes the information collection requirements. OMB control number 2502-0059 remains the currently approved control number for § 203.255(f).

Dated: January 30, 2006.
Frank L. Davis,
General Deputy Assistant Secretary for Housing.

[FR Doc. 06-1121 Filed 2-7-06; 8:45 am]

BILLING CODE 4210-67-P